DEPARTMENT OF HEALTH AND HUMAN SERVICES

Centers for Disease Control and Prevention

[30Day-07-05BU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-6974. Written comments should be received within 30 days of this notice.

Proposed Project

Assessment and Monitoring of Breastfeeding-Related Maternity Care Practices in Intra-partum Care Facilities in the United States and Territories—New—National Center for Chronic Disease Prevention and Health Promotion (NCCDPHP), Centers for Disease Control and Prevention (CDC).

Background and Brief Description

There is substantial evidence on the social, economic and health benefits of breastfeeding for both the mother and infant and the importance of the health care system in promoting the initiation and maintenance of breastfeeding. Yet breastfeeding initiation rates and duration in the United States did not achieve Healthy People 2000 goals, and significant disparities continue to exist between African American and white women in breastfeeding rates. The Healthy People 2010 goals are to increase the proportion of mothers who breastfeed in the early postpartum period from 64% (1998 estimate) to 75%, the proportion who breastfeed their babies through 6 months of age from 29% to 50%, and to increase from 16% to 25% the proportion of mothers who breastfeed to 1 year of age and to decrease the disparities in breastfeeding initiation, exclusivity, and duration between African American and white women. In addition to ethnic and racial disparities, there is evidence of significant variation in state breastfeeding rates. For example, the breastfeeding initiation rate in Louisiana was 46.4% in 2003 and in Oregon was 88.8%.

One important and effective means to promote and support the initiation and maintenance of breastfeeding is through the health care system. While the few studies on breastfeeding practices at intra-partum care facilities in individual states and facilities show significant variation in practices, it is not currently possible to assess and monitor breastfeeding-related practices and policies in hospitals and free-standing childbirth centers across the United States with data currently available.

CDC plans to conduct an assessment of breastfeeding-related maternity care practices in intra-partum care facilities in the United States and Territories to provide information to individual facilities, state health departments, and CDC on the extent to which facilities are providing effective breastfeeding-related maternity care. The assessment will provide detailed information on general facility characteristics related to maternity care such as facility policies related to breastfeeding-related maternity care practices, practices related to the training of health care staff on breastfeeding instruction, management and support, rooming-in, infant supplementation, and discharge from facility. CDC will provide facility-specific information based on the assessment to the individual facilities and state-specific information to state health departments. The information from the survey can be used by facilities to evaluate and modify breastfeeding-related maternity care practices, and by states and CDC to inform and target programs and policies to improve breastfeeding-related maternity care practices at intra-partum care facilities.

Approximately 4,375 facilities providing maternity care in the United States and Territories will be mailed a survey every other year in this study. The survey will be administered for the first time in 2007 and for the second time in 2009. Survey content will be similar in each of the administrations to examine changes in practices and policies over time. It is expected that approximately 3,700 facilities will complete the thirty-minute questionnaire in each administration. The facilities will be identified from the American Hospital Association's Annual Survey of Hospitals (AHA) and the National Association of Childbearing Centers (NACC). A five-minute screening telephone call will be made prior to survey administrations to all facilities identified as providing maternity care in AHA and NACC to ensure they are currently providing maternity care, to identify possible satellite clinics providing maternity care, and to identify survey respondent in each of the facilities. The respondents will have the option of either responding by mail or through a Web-based system. The survey will provide detailed information about breastfeeding-related maternity care practices and policies at hospitals and free-standing birth centers. There are no costs to respondents other than their time. The approximate annualized burden hours are 1,484 hours.

Estimated Annualized Burden Hours
Questionnaire/respondents | Number of respondents | Number of responses/ respondent | Average burden per response (in hours)
Screening call to facilities that have at least one registered maternity bed (2006) | 1458 | 1 | 5/60
Mail survey/ facilities providing maternity care in the past calendar year (2006) | 1240 | 1 | 30/60
Screening call to facilities that have at least one registered maternity bed (2008) | 1458 | 1 | 5/60
Mail survey/ facilities providing maternity care in the past calendar year (2008) | 1240 | 1 | 30/60

Dated: January 31, 2007.
Joan F. Karr,
Acting Reports Clearance Officer, Centers for Disease Control and Prevention.

[FR Doc. E7-2070 Filed 2-7-07; 8:45 am]

BILLING CODE 4163-18-P